DEPARTMENT OF COMMERCE

International Trade Administration

[A-549-502]

Circular Welded Carbon Steel Pipes and Tubes From Thailand: Preliminary Results of Antidumping Duty Administrative Review and Preliminary Determination of No Shipments; 2020-2021

AGENCY: Enforcement and Compliance, International Trade Administration, U.S. Department of Commerce.

SUMMARY: The Department of Commerce (Commerce) preliminarily finds that Saha Thai Steel Pipe Public Co., Ltd., also known as Saha Thai Steel Pipe (Public) Co., Ltd. (Saha Thai), as well as 28 non-examined companies, made sales of subject merchandise at less than normal value during the period of review (POR) March 1, 2020, through February 28, 2021. We further preliminarily determine that K Line Logistics (Thailand) Ltd. (K-Line) had no shipments during the POR. We invite interested parties to comment on these preliminary results.

DATES: Applicable April 6, 2022.

FOR FURTHER INFORMATION CONTACT: Michael Romani or Richard Roberts, AD/CVD Operations, Office I, Enforcement and Compliance, International Trade Administration, U.S. Department of Commerce, 1401 Constitution Avenue NW, Washington, DC 20230; telephone: (202) 482-0198 or (202) 482-3464, respectively.

SUPPLEMENTARY INFORMATION:

Background

These preliminary results are made in accordance with section 751(a)(3)(A) of the Tariff Act of 1930, as amended (the Act). Commerce published the notice of initiation of this administrative review on May 5, 2021.¹ On November 24, 2021, Commerce extended the time for issuing the preliminary results of this review to March 31, 2022.²

¹ See Initiation of Antidumping and Countervailing Duty Administrative Reviews, 86 FR 23925 (May 5, 2021).

² See Memorandum, “2020-2021 Antidumping Duty Administrative Review of Circular Welded Carbon Steel Pipes and Tubes from Thailand: Extension of Deadline for Preliminary Results of Antidumping Duty Administrative Review,” dated November 24, 2021.

For a more complete description of the events between the initiation of this review and these preliminary results, see the Preliminary Decision Memorandum.³ A list of topics discussed in the Preliminary Decision Memorandum is attached in Appendix I to this notice. The Preliminary Decision Memorandum is a public document and is on file electronically via Enforcement and Compliance's Antidumping and Countervailing Duty Centralized Electronic Service System (ACCESS). ACCESS is available to registered users at https://access.trade.gov. In addition, the signed Preliminary Decision Memorandum can be accessed directly at https://access.trade.gov/public/FRNoticesListLayout.aspx.

³ See Memorandum, “Circular Welded Carbon Steel Pipes and Tubes from Thailand: Decision Memorandum for the Preliminary Results of Antidumping Duty Administrative Review and Preliminary Determination of No Shipments; 2020-2021,” dated concurrently with, and hereby adopted by, this notice (Preliminary Decision Memorandum).

Scope of the Order ⁴

⁴ See Antidumping Duty Order; Circular Welded Carbon Steel Pipes and Tubes from Thailand, 51 FR 8341 (March 11, 1986) (Order).

The products covered by the Order are pipes and tubes from Thailand. For a full description of the scope of this Order, see the Preliminary Decision Memorandum.⁵

⁵ See Preliminary Decision Memorandum at “Scope of the Order.”

Methodology

Commerce conducted this review in accordance with section 751(a)(2) of the Act. Export price is calculated in accordance with section 772 of the Act. Normal value is calculated in accordance with section 773 of the Act. For a full description of the methodology underlying these preliminary results, see the Preliminary Decision Memorandum.

Preliminary Determination of No Shipments

On May 31, 2021, K-Line submitted a letter certifying that it had no exports or sales of subject merchandise into the United States during the POR.⁶ U.S. Customs and Border Protection (CBP) did not have any information to contradict this claim of no shipments during the POR.⁷ Therefore, we preliminarily determine that K-Line did not have any shipments of subject merchandise during the POR. Consistent with Commerce's practice, we will not rescind the review with respect to K-Line but will complete the review and issue instructions to CBP based on the final results.⁸

⁶ See K-Line's Letter, “Circular Welded Carbon Steel Pipes and Tubes from Thailand, Case No. A-S49-S02: Notice of No Sales,” dated May 31, 2021.

⁷ See Memorandum, “Antidumping Duty Administrative Review; Circular Welded Carbon Steel Pipes and Tubes from Thailand, 2020-2021: U.S. Customs and Border Protection (CBP) Data Release,” dated May 27, 2021 at Attachment. See also Instruction to Customs and Border Protection, “No shipments inquiry for Circular Welded Pipes and Tubes from Thailand by K Line Logistics (A-549-502),” dated March 7, 2022; and Memorandum, “Antidumping Duty Administrative Review; Circular Welded Carbon Steel Pipes and Tubes from Thailand, 2020-2021: U.S. Customs and Border Protection (CBP) Data Release,” dated May 27, 2021.

⁸ See Antidumping and Countervailing Duty Proceedings: Assessment of Antidumping Duties, 68 FR 23954 (May 6, 2003).

Rate for Non-Examined Companies

The statute and Commerce's regulations do not address the establishment of a weighted-average dumping margin to be applied to companies not selected for individual examination when Commerce limits its examination in an administrative review pursuant to section 777A(c)(2) of the Act. Generally, Commerce looks to section 735(c)(5) of the Act, which provides instructions for calculating the all-others rate in a less-than-fair-value investigation, for guidance when calculating the weighted-average dumping margin for companies which were not selected for individual examination in an administrative review. Under section 735(c)(5)(A) of the Act, the all-others rate is normally an amount equal to the weighted-average of the estimated weighted-average dumping margins established for exporters and producers individually investigated, excluding any zero or de minimis (i.e., less than 0.5 percent) margins, and any margins determined entirely on the basis of facts available.

In this review, we have preliminarily calculated a weighted-average dumping margin for mandatory respondent, Saha Thai, that is zero percent. Where the rates for the individually examined companies are all zero, de minimis, or determined entirely using facts available, section 735(c)(5)(B) of the Act instructs that Commerce “may use any reasonable method to establish the estimated all-others rate for exporters and producers not individually investigated, including averaging the estimated weighted average dumping margins determined for the exporters and producers individually investigated.” One such reasonable method is to weight average the zero and de minimis rates, and the rates determined entirely pursuant to facts available. In fact, the SAA states that this is the “expected” method in such circumstances.⁹ Accordingly, we determined the weighted-average dumping margin for the 28 companies that were not selected for individual examination based on the weighted average dumping margin calculated for Saha Thai, i.e., zero percent, consistent with section 735(c)(5)(B) of the Act.

⁹ See Statement of Administrative Action Accompanying the Uruguay Round Agreements Act, H.R. Doc. 103-316, vol. 1 (1994) (SAA) at 873.

This is the only rate determined in this review for an individually examined company, and, thus, it is applied to the 28 firms not selected for individual examination.

Preliminary Results of Review

Commerce preliminarily determines that the following weighted-average dumping margins exist for the period March 1, 2020, through February 28, 2021:

Producer/exporter | Weighted-average dumping margin (percent)
Saha Thai Steel Pipe Public Company, Ltd. (also known as Saha Thai Steel Pipe (Public) Company, Ltd.) | 0.00
Review-Specific Average Rate Applicable to the Following Companies
Other Respondents ¹⁰ | 0.00

Disclosure

We intend to disclose the calculations performed for these preliminary results to interested parties within five days after the date of publication of this notice in accordance with 19 CFR 351.224(b).

Public Comment

¹⁰ See Appendix II for a full list of these companies.

Pursuant to 19 CFR 351.309(c), interested parties may submit case briefs not later than 30 days after the date of publication of this notice. Rebuttal briefs, limited to issues raised in the case briefs, may be filed not later than seven days after the date for filing case briefs.¹¹ Note that Commerce has temporarily modified certain of its requirements for serving documents containing business proprietary information until further notice.¹² Parties who submit case briefs or rebuttal briefs in this proceeding are encouraged to submit with each argument: (1) A statement of the issue; (2) a brief summary of the argument; and (3) a table of authorities.¹³ Executive summaries should be limited to five pages total, including footnotes. Case and rebuttal briefs should be filed using ACCESS ¹⁴ and must be served on interested parties.¹⁵ An electronically filed document must be received successfully in its entirety by ACCESS by 5:00 p.m. Eastern Time on the date that the document is due.

¹¹ See 19 CFR 351.309(d).

¹² See Temporary Rule Modifying AD/CVD Service Requirements Due to COVID-19; Extension of Effective Period, 85 FR 41363 (July 10, 2020).

¹³ See 19 CFR 351.309(c)(2) and (d)(2).

¹⁴ See generally 19 CFR 351.303.

¹⁵ See 19 CFR 351.303(f).

Pursuant to 19 CFR 351.310(c), interested parties who wish to request a hearing must submit a written request to the Assistant Secretary for Enforcement and Compliance, filed electronically via ACCESS, within 30 days after the date of publication of this notice. Requests should contain: (1) The party's name, address and telephone number; (2) the number of participants; and (3) a list of issues to be discussed. If a request for a hearing is made, Commerce intends to hold the hearing at a time and date to be determined. Parties should confirm the date and time of the hearing two days before the scheduled date. Issues raised in the hearing will be limited to those raised in the briefs.

Commerce intends to issue the final results of this administrative review, including the results of its analysis of the issues raised in any written briefs, not later than 120 days after the date of publication of this notice, unless extended, pursuant to section 751(a)(3)(A) of the Act.

Assessment Rates

Upon issuing the final results, Commerce shall determine and CBP shall assess antidumping duties on all appropriate entries covered by this review. If an examined respondent's weighted-average dumping margin is above de minimis in the final results of this review, we will calculate importer-specific ad valorem assessment rates on the basis of the ratio of the total amount of dumping calculated for an importer's examined sales and the total entered value of such sales in accordance with 19 CFR 351.212(b)(1). Where either the respondent's weighted-average dumping margin is zero or de minimis within the meaning of 19 CFR 351.106(c), or an importer-specific assessment rate is zero or de minimis, we will instruct CBP to liquidate the appropriate entries without regard to antidumping duties in accordance with 19 CFR 351.106(c)(2).

For entries of subject merchandise during the POR produced by Saha Thai for which they did not know that the merchandise was destined to the United States and for all entries attributed to K-Line for which we found no shipments during the POR, we will instruct CBP to liquidate those entries at the all-others rate if there is no rate for the intermediate company(ies) involved in the transaction.¹⁶ For the companies that were not selected for individual review, we intend to assign an assessment rate based on the methodology described in the “Rates for Non-Examined Companies” section. The final results of this review shall be the basis for the assessment of antidumping duties on entries of merchandise covered by this review where applicable.

¹⁶ See 19 CFR 351.310(c).

We intend to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication in the Federal Register of the notice of final results of administrative review for all shipments of subject merchandise entered, or withdrawn from warehouse, for consumption on or after the date of publication as provided for by section 751(a)(2)(C) of the Act: (1) The cash deposit rate for the companies under review will be equal to the weighted-average dumping margin established in the final results of this review (except, if that rate is de minimis, then the cash deposit rate will be zero); (2) for previously reviewed or investigated companies not listed above in the preliminary results of this review, including those for which Commerce may determine had no shipments during the POR, the cash deposit rate will continue to be the company-specific rate published for the most recently completed segment of this proceeding; (3) if the exporter is not a firm covered in this review or another completed segment of this proceeding, but the manufacturer is, then the cash deposit rate will be the rate established for the most recently completed segment of this proceeding for the manufacturer of the merchandise; and (4) if neither the exporter nor the manufacturer is a firm covered in this or any previously completed segment of this proceeding, then the cash deposit rate will be the all-others rate of 15.67 percent, established in the less-than-fair-value investigation.¹⁷ These deposit requirements, when imposed, shall remain in effect until further notice.

¹⁷ See Order.

Notification to Importers

This notice serves as a preliminary reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification to Interested Parties

We are issuing and publishing these preliminary results in accordance with sections 751(a)(1) and 777(i) of the Act, and 19 CFR 351.213(h) and 351.221(b)(4).

Dated: March 31, 2022.
Lisa W. Wang,
Assistant Secretary for Enforcement and Compliance.

Appendix I

List of Topics Discussed in the Preliminary Decision Memorandum

I. Summary

II. Background

III. Scope of the Order

IV. Particular Market Situation

V. Product Comparisons

VI. Discussion of Methodology

VII. Recommendation

Appendix II

List of Companies Not Individually Examined

1. Apex International Logistics

2. Aquatec Maxcon Asia

3. Asian Unity Part Co., Ltd.

4. Better Steel Pipe Company Limited.

5. Bis Pipe Fitting Industry Co., Ltd.

6. Blue Pipe Steel Center Co. Ltd.

7. Chuhatsu (Thailand) Co., Ltd.

8. CSE Technologies Co., Ltd.

9. Expeditors International (Bangkok)

10. Expeditors Ltd.

11. FS International (Thailand) Co., Ltd

12. Kerry-Apex (Thailand) Co., Ltd.

13. Oil Steel Tube (Thailand) Co., Ltd.

14. Otto Ender Steel Structure Co., Ltd.

15. Pacific Pipe and Pump

16. Pacific Pipe Public Company Limited

17. Panalpina World Transport Ltd.

18. Polypipe Engineering Co., Ltd.

19. Schlumberger Overseas S.A.

20. Siam Fittings Co., Ltd.

21. Siam Steel Pipe Co., Ltd.

22. Sino Connections Logistics (Thailand) Co., Ltd.

23. Thai Malleable Iron and Steel

24. Thai Oil Group

25. Thai Oil Pipe Co., Ltd.

26. Thai Premium Pipe Co., Ltd.

27. Vatana Phaisal Engineering Company

28. Visavakit Patana Corp., Ltd.

[FR Doc. 2022-07215 Filed 4-5-22; 8:45 am]

BILLING CODE 3510-DS-P